DEPARTMENT OF ENERGY

Golden Field Office; Event Organizer for U.S. Collegiate Solar Car Race Competitions

AGENCY: U.S. Department of Energy.

ACTION: Issuance of Solicitation for Financial Assistance Applications DE-PS36-01GO90011.

SUMMARY: The U.S. Department of Energy (DOE), pursuant to the DOE Financial Assistance Rules, 10 CFR 600.8, is announcing its intention to solicit Applications for the planning, management and conduct of a biennial collegiate competition to design, build, and race solar-powered cars in cross-country events in the United States during calendar years 2003 and 2005. The Financial Assistance award issued under this Solicitation will be a cooperative agreement.

DATES: The solicitation will be issued May 2001.

ADDRESSES: To obtain a copy of the solicitation once it is issued, interested parties must access the DOE Golden Field Office Home Page at http://www.golden.doe.gov/businessopportunities.html, click on “Solicitations.” And then locate the solicitation number identified above. DOE does not intend to issue written copies of the solicitation.

FOR FURTHER INFORMATION CONTACT: Ruth E. Adams, Contracting Officer, DOE Golden Field Office, 1617 Cole Boulevard, Golden, CO 80401-3393 or via facsimile to Ruth E. Adams at (303) 275-4788, or electronically to ruth_adams@nrel.gov. Responses to questions will be made by Amendment and posted on the DOE Golden Field Office Home Page.

SUPPLEMENTARY INFORMATION: Under this solicitation, DOE is soliciting Applications for the planning, management and conduct of the 2003 and 2005 U.S. cross-country solar car race competitions. The events should focus on collegiate competitions for the advancement of solar technologies—specifically photovoltaics; educational and engineering excellence; environmental consciousness; and public awareness of the potential of emerging solar technologies. Through sponsorship of the solar car race competitions, DOE intends to promote and encourage educational excellence and engineering creativity, and to champion the creative integration of technical and scientific expertise across a broad range of energy and transportation related disciplines in the application of solar energy resources.

Organizations applying under this solicitation are required to work in collaboration with National Laboratories and academic institutions in the development and execution of this program. No eligibility restrictions are imposed upon this solicitation; however, proposals will be screened for potential conflicts of interests where it may appear that an award Recipient could potentially gain substantial benefits or have conflicting vested interests in this program. Applicants should be able to demonstrate past experience in event planning, management, and conduct of competitions (preferably with colleges and universities) and in soliciting co-sponsorship and funding. Any award under this solicitation will be a Cooperative Agreement with a potential term of four years. Subject to funding availability, the total DOE funding anticipated under this solicitation will be approximately $1,000,000 over a four-year period ($250,000 per year or $500,000 per event). Support for the second event will be subject to performance of the 2003 event and funding availability. DOE anticipates selecting one application for negotiation toward an award. In addition to funding the planning, management, and conduct of the events, DOE intends to lead the public outreach efforts for these competitions.

This program is not considered research, development, or demonstration; therefore, no cost share is required. However, proposed cost share levels based upon anticipated sponsorship and support for the competitions will be a major consideration for an award under this solicitation. While it is believed that program success can be achieved without cost share, DOE recognizes that an increased level of sponsorship above that provided by DOE would enhance the impact of these solar competitions.

Applications under this Solicitation must provide a comprehensive plan for the management and conduct of the 2003 and 2005 biennial collegiate solar car race competitions including a plan for obtaining co-sponsorship and support for each event. A critical component of the Applicant's proposal will be their demonstrated ability to organize these events and demonstrated success in securing co-sponsorship and support for similar collegiate competitions.

Applications submitted by Federally Funded Research and Development Centers (FFRDC's), as defined by Federal Acquisition Regulation (FAR) 35.017, will not be considered for award. All questions concerning this Solicitation must be submitted in writing to: Ruth E. Adams, Contracting Officer, DOE Golden Field Office, 1617 Cole Boulevard, Golden, CO 80401-3393 or transmitted via facsimile to Ruth E. Adams, Contracting Officer, at (303) 275-4788 or electronically to ruth_adams@nrel.gov.

Issued in Golden, Colorado, on May 4, 2001.
Jerry L. Zimmer,
Director, Office of Acquisition and Financial Assistance.

[FR Doc. 01-12330 Filed 5-15-01; 8:45 am]

BILLING CODE 6450-01-P